DEPARTMENT OF LABOR

Employment and Training Administration

NAFTA-3369

Superior—Essex, Pauline, KS; Notice of Negative Determination on Reconsideration

On March 20, 2000, the Department issued an Affirmative Determination Regarding Application for Reconsideration for the workers and former workers of the subject firm. United Steelworkers of America stated that the production of copper rod was shifted from the Pauline, Kansas plant of Superior-Essex to Mexico. The notice was published in the Federal Register on March 27, 2000 (65 FR 16227).

The Department initially denied NAFTA-TAA to workers producing copper building wire at Superior-Essex, Pauline, Kansas based on the finding that criteria (3) and (4) of the group eligibility requriements of paragraph (a)(1) of Section 250 of the Trade Act, as amended, were not met. The subject firm did not increase imports of like products from Canada or Mexico, nor did it shift production to Canada or Mexico.

New information obtained on reconsideration regarding the production of copper rod at the subject plant show that prior to the plant closure, sales and production of copper rod increased from 1998 to 1999. Superior—Essex did not import copper rod form Mexico or Canada, nor did it shift production from Pauline, Kansas to those countries. The copper rod produced by workers at the Superior-Essex, Pauline, Kansas, is being transferred to other domestic plants of the subject firm.

Conclusion

After reconsideration, I affirm the original notice of negative determination of eligibility to apply for NAFTA-TAA for workers and former workers of Superior—Essex, Pauline, Kansas.

Signed at Washington, D.C., this 20th day of April 2000.
Edward A. Tomchick,
Director, Division of Trade Adjustment Assistance.

[FR Doc. 00-11119 Filed 5-3-00; 8:45 am]

BILLING CODE 4510-30-M